DEPARTMENT OF THE INTERIOR

Fish and Wildlife Service

[FWS-R3-R-2013-N295; FXRS1265030000-145-FF03R06000]

Iowa Wetland Management District, 35 Counties in North-Central and Northwest Iowa; Final Comprehensive Conservation Plan and Finding of No Significant Impact for the Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for the Iowa Wetland Management District (district, WMD). In this final CCP we describe how we intend to manage the district for the next 15 years.

ADDRESSES: You will find the final CCP with an embedded executive summary and attached FONSI on the planning Web site at http://www.fws.gov/midwest/planning/iowawetlands/index.html. A limited number of hard copies and CD-ROMs are available. You may request one by any of the following methods:

• Email: r3planning@fws.gov. Include “Iowa WMD Final CCP” in the subject line of the message.

• Fax: Attention: Refuge Manager, 515-928-2230.

• U.S. Mail: Attention: Refuge Manager Tim Miller, Iowa Wetland Management District, 1710 360th Street, Titonka, IA 50480.

FOR FURTHER INFORMATION CONTACT: Tim Miller, 515-928-2523.

SUPPLEMENTARY INFORMATION:

Introduction

With this notice, we continue the CCP planning process for the Iowa Wetland Management District, which we began by publishing a notice of intent in the Federal Register (75 FR 7289) on February 18, 2010. For more about the initial process and the history of the district, see that notice. We released the EA/Draft CCP to the public, announcing and requesting comments in a notice of availability (78 FR 50441) on August 19, 2013. The 30-day comment period ended on September 18, 2013. The public comments received and the agency responses to them are included in the Response to Comments appendix in the Final CCP.

Background

The National Wildlife Refuge System Administration Act of 1966, as amended by the National Wildlife Refuge System Improvement Act of 1997 (16 U.S.C. 668dd-668ee) (Administration Act), requires us to develop a CCP for each national wildlife refuge (including wetland management districts). The purpose in developing a CCP is to provide the district manager with a 15-year strategy for achieving district purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each unit within the NWRS mission, and to determine how the public can use each unit. The planning process is a way for us and the public to evaluate management goals and objectives that will ensure the best possible approach to wildlife, plant, and habitat conservation, while providing for wildlife-dependent recreation opportunities that are compatible with each unit's establishing purposes and the mission of the NWRS.

Additional Information

The final CCP (with attached FONSI), which includes detailed information about the planning process, district, issues, and management alternative selected, may be found at http://www.fws.gov/midwest/planning/iowawetlands/index.html. The Web site also includes an EA/Draft CCP, prepared in accordance with the National Environmental Policy Act (NEPA) (43 U.S.C. 4321 et seq.). The EA/Draft CCP includes discussion of four alternative district management options. The Service's selected alternative is reflected in the final CCP. Appendix K: Errata was added to the EA/Draft CCP, after it was released for public review on August 19th, 2013, in response to comment.

The selected alternative focuses on managing for breeding waterfowl. Restoring cropland to perennial grassland will be the dominant activity in the uplands, while a variety of pothole wetlands will be the focus for restoration in the lowlands, especially those important to restoration of semi-permanent to shallow lakes. A diversity of wetland types will provide for a greater diversity of wildlife, in particular, grassland and other wetland birds. Public use opportunities, in addition to hunting, fishing, and trapping, as well as some additional public use facilities (kiosks), will be provided, and some food plots will remain. Environmental education, interpretation, and outreach will remain at current levels, with more emphasis on distributing a consistent message for the entire district. Furthermore, based on comments received from the public during the planning process, within two years of CCP approval, it will be proposed through the federal rulemaking process to implement the following regulation on the Service's fee title property within the Iowa WMD: “You may only use or possess approved nontoxic shot shells while in the field, including shot shells used for hunting wild turkey.” This requirement would be in line with current regulations at 50 CFR 32.2(k).

Charles M. Wooley,
Acting Regional Director, Midwest Region, U.S. Fish and Wildlife Service.

[FR Doc. 2014-09308 Filed 4-23-14; 8:45 am]

BILLING CODE 4310-55-P